DEPARTMENT OF THE INTERIOR

National Park Service

[NPS-WASO NRSS-SSB-19011; PX.XBSAD0104.00.1)]

Information Collection Request Sent to the Office of Management and Budget (OMB) for Approval; A Survey of National Parks and Federal Recreational Lands Pass Holders

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB Control Number. However, under OMB regulations, we may continue to conduct or sponsor this information collection while it is pending at OMB.

DATES: You must submit comments on or before September 14, 2015.

ADDRESSES: Send your comments and suggestions on this information collection to the Desk Officer for the Department of the Interior at OMB-OIRA at (202) 395-5806 (fax) or OIRA_Submission@omb.eop.gov (email). Please provide a copy of your comments to the Phadrea Ponds, Information Collection Coordinator, National Park Service, 1201 Oakridge Drive, Fort Collins, CO 80525 (mail); or phadrea_ponds@nps.gov (email). Please reference Information Collection 1024-ATB in the subject line. You may also access this ICR at www.reginfo.gov.

FOR FURTHER INFORMATION CONTACT: Joshua Nadas, National Park Service. 1201 Eye Street NW., 9th Floor. Washington, DC 20005. Joshua_Nadas@nps.gov (email); or (202) 354-6909 (phone).

SUPPLEMENTARY INFORMATION:

I. Abstract

The National Parks and Federal Recreational Lands Pass program is a cooperative effort between five federal agencies: National Park Service, U.S. Forest Service, Bureau of Reclamation, U.S. Fish and Wildlife Service, and Bureau of Land Management. A survey will be used to understand how passes are being used in recreational areas managed by the five partnering agencies. These passes are intended to provide ease of use and potential cost savings to the public, however there is no centralized tracking system available to determine where, when and how often the passes are used; and with that, there is no way to estimate the division of revenue between the agencies for the sale and use of the passes. The proposed survey will be used to gather information on use patterns from current pass holders to provide data that could be used to develop strategies for the equitable division of pass revenues between participating agencies.

II. Data

OMB Control Number: 1024—NEW.

Title: A Survey of National Parks and Federal Recreational Lands Pass Holders.

Service Form Number(s): None.

Type of Request: New Collection.

Description of Respondents: Individuals and general public.

Respondent's Obligation: Voluntary.

Frequency of Collection: One-time.

Estimated Annual Number of Responses: 2,610 respondents and 1,967 Non-respondents.

Estimated Completion Time per Response: 15 minutes per respondent and 3 minutes per non-respondent.

Estimated Total Annual Burden Hours: 751 hours.

Estimated Annual Nonhour Burden Cost: There are none.

III. Comments

On December 23, 2014 we published in the Federal Register (79 FR 77032) a notice of our intent to request that OMB renew approval for this information collection. In that notice, we solicited comments for 60 days, ending on February 23, 2015. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 7, 2015.
Madonna L. Baucum,
Information Collection Clearance Officer, National Park Service.

[FR Doc. 2015-19905 Filed 8-12-15; 8:45 am]

BILLING CODE 4310-70-P